DEPARTMENT OF ENERGY

Federal Energy Regulatory Commission

Combined Notice of Filings #1

October 8, 2008

Take notice that the Commission received the following electric corporate filings:

Docket Numbers: EC09-3-000.

Applicants: Noble Clinton Windpark I, LLC, Noble Ellenburg Windpark, LLC, Noble Bliss Windpark, LLC, EFS Noble Holdings, LLC, Bankers Commercial Corporation.

Description: Nobel Clinton Windpark I, LLC's et al. Application for Approval of the Disposition of Jurisdictional Facilities Under Section 203 of the Federal Power Act and Request for Expedited Consideration.

Filed Date: 10/07/2008.

Accession Number: 20081007-5082.

Comment Date: 5 p.m. Eastern Time on Tuesday, October 28, 2008.

Take notice that the Commission received the following exempt wholesale generator filings:

Docket Numbers: EG09-3-000.

Applicants: Otay Mesa Energy Center, LLC.

Description: Notice of Self-Certification of Exempt Wholesale Generator Status.

Filed Date: 10/03/2008.

Accession Number: 20081003-5022.

Comment Date: 5 p.m. Eastern Time on Friday, October 24, 2008.

Take notice that the Commission received the following electric rate filings:

Docket Numbers: ER99-1005-009; ER03-1079-009.

Applicants: Kansas City Power & Light Company; Aquila Inc.

Description: Kansas City Power & Light Company et al. submits substitute tariff sheets noting the KCPL and Aquila are Category 2 sellers in both Southwest Power Pool and Central regions under ER99-1005 et al.

Filed Date: 10/03/2008.

Accession Number: 20081007-0103.

Comment Date: 5 p.m. Eastern Time on Friday, October 24, 2008.

Docket Numbers: ER08-100-005; ER07-265-005; ER07-1215-006.

Applicants: Sempra Energy Trading LLC; Sempra Energy Solutions LLC; The Royal Bank of Scotland plc.

Description: Sempra Energy Trading, LLC et al. submits notice of change in status, in compliance with Order 652.

Filed Date: 10/06/2008.

Accession Number: 20081008-0131.

Comment Date: 5 p.m. Eastern Time on Monday, October 27, 2008.

Docket Numbers: ER08-387-006; ER06-200-016; ER07-254-009; ER03-1326-016; ER07-460-007; ER05-534-017; ER05-365-017; ER05-1262-017; ER06-1093-013; ER03-296-019; ER08-912-002; ER01-3121-018; ER05-332-017; ER07-287-010; ER08-933-003; ER07-195-009; ER08-934-004; ER07-242-010; ER03-951-019; ER04-94-017; ER02-2085-012; ER02-417-017; ER07-1378-008; ER05-1146-017; ER05-481-017; ER07-240-011; ER02-418-017; ER03-416-020.

Applicants: Atlantic Renewable Projects II, LLC; Big Horn Wind Project LLC; Casselman Windpower, LLC; Colorado Green Holdings LLC; Dillion Wind LLC; Eastern Desert Power LLC; Elk River Windfarm LLC; Flat Rock Windpower LLC; Flat Rock Windpower II LLC; Flying Cloud Power Partners, LLC; Flying Cloud Power Partners, LLC; IBERDROLA RENEWABLES, Inc.; Klamath Energy LLC; Klondike Wind Power II LLC; Klondike Wind Power III LLC; Lempster Wind, LLC; Locust Ridge Wind Farm, LLC; Locust Ridge II, LLC; MinnDakota Wind LLC; Moraine Wind LLC; Mountain View Power Partners III, LLC; Northern Iowa Windpower II LLC; Phoenix Wind Power LLC; Providence Heights Wind, LLC; Shiloh I Wind Project LLC; Trimont Wind I LLC; Twin Buttes Wind LLC; Klamath Generation LLC; Klondike Wind Power LLC.

Description: Iberdrola Renewables Companies submits notification of a non-material change in status resulting from the construction of additional generating capacity by Klondike Wind Power II, LLC.

Filed Date: 10/06/2008.

Accession Number: 20081008-0130.

Comment Date: 5 p.m. Eastern Time on Monday, October 27, 2008.

Docket Numbers: ER08-1272-001.

Applicants: New York Independent System Operator, Inc.

Description: New York Independent System Operator, Inc submits revisions to the Headroom cost allocation methodology contained in the NYISO's Open Access Transmission Tariff Attachment S.

Filed Date: 10/03/2008.

Accession Number: 20081006-0169.

Comment Date: 5 p.m. Eastern Time on Friday, October 24, 2008.

Docket Numbers: ER09-15-000.

Applicants: Midwest Independent Transmission System.

Description: Midwest Independent Transmission System Operator, Inc submits their proposed “Revised Clean-Up Filing” which is intended to replace the current existing Open Access Transmission & Energy Markets Tariff.

Filed Date: 10/01/2008.

Accession Number: 20081003-0100.

Comment Date: 5 p.m. Eastern Time on Wednesday, October 22, 2008.

Docket Numbers: ER09-35-000.

Applicants: Tallgrass Transmission, LLC.

Description: Tallgrass Transmission, LLC submits request for acceptance of a formula rate and rate incentives for its investment in a major 765 kV transmission project that Tallgrass intends to build in the Southwest Power Pool, Inc.

Filed Date: 10/03/2008.

Accession Number: 20081007-0094.

Comment Date: 5 p.m. Eastern Time on Friday, October 24, 2008.

Docket Numbers: ER09-36-000.

Applicants: Prairie Wind Transmission, LLC.

Description: Prairie Wind Transmission, LLC requests acceptance of a formula rate and rate incentives for its investment in a major 765 kV transmission project that Prairie Wind intends to build in the Southwest Power Pool, Inc region.

Filed Date: 10/03/2008.

Accession Number: 20081007-0091.

Comment Date: 5 p.m. Eastern Time on Friday, October 24, 2008.

Take notice that the Commission received the following open access transmission tariff filings:

Docket Numbers: OA08-22-002.

Applicants: Florida Power Corporation.

Description: Florida Power Corporation submits Order No. 890 OATT Attachment K Compliance Filing.

Filed Date: 10/07/2008.

Accession Number: 20081007-5094.

Comment Date: 5 p.m. Eastern Time on Tuesday, October 28, 2008.

Docket Numbers: OA08-29-001.

Applicants: Florida Power & Light Company.

Description: Florida Power & Light Company submits its Revised Order No. 890—Attachment K Compliance Filing.

Filed Date: 10/07/2008.

Accession Number: 20081007-5081.

Comment Date: 5 p.m. Eastern Time on Tuesday, October 28, 2008.

Docket Numbers: OA09-2-000.

Applicants: Oklahoma Gas and Electric Company.

Description: Oklahoma Gas and Electric Company Order No. 890-B Compliance Filing.

Filed Date: 10/06/2008.

Accession Number: 20081006-5100.

Comment Date: 5 p.m. Eastern Time on Monday, October 27, 2008.

Docket Numbers: OA09-4-000.

Applicants: PJM Interconnection, L.L.C.

Description: PJM Interconnection, LLC's FPA Section 206 Filing with Non-Rate Terms and Conditions to comply with Order No. 890-B in OA09-4.

Filed Date: 10/06/2008.

Accession Number: 20081006-5122.

Comment Date: 5 p.m. Eastern Time on Monday, October 27, 2008.

Take notice that the Commission received the following public utility holding company filings:

Docket Numbers: PH09-1-000.

Applicants: GAMCO Investors, Inc.

Description: GAMCO Investors, Inc submits its Form 65A notification of exemption from the Requirements of The Public Utility Holding Company Act of 2005.

Filed Date: 10/01/2008.

Accession Number: 20081007-0123.

Comment Date: 5 p.m. Eastern Time on Wednesday, October 22, 2008.

Docket Numbers: PH09-2-000.

Applicants: MDU Resources Group, Inc.

Description: MDU Resources Group, Inc.—Exemption Notification and Notice of Material Change in Facts.

Filed Date: 10/07/2008.

Accession Number: 20081007-5030.

Comment Date: 5 p.m. Eastern Time on Tuesday, October 28, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-24562 Filed 10-14-08; 8:45 am]

BILLING CODE 6717-01-P